DEPARTMENT OF ENERGY

Federal Energy Regulatory Commission

[Docket No. CP10-101-000]

Kinder Morgan Louisiana Pipeline LLC; Notice of Request Under Blanket Authorization

March 30, 2010.

Take notice that on March 25, 2010, Kinder Morgan Louisiana Pipeline LLC (KMLP), 3250 Lacey Road, Suite 700, Downers Grove, IL 60515, filed in Docket No. CP10-101-000, a prior notice request pursuant to sections 157.205, 157.208, 157.211, and 157.212 of the Commission's regulations under the Natural Gas Act (NGA). KMLP seeks authorization to construct and operate a new tap, including ball valve and riser and approximately 15 feet of 8-inch pipe to connect the KMPL system to Targa Louisiana Field Services LLC in Calcasieu Parish, Louisiana in order to deliver re-vaporized liquefied natural gas to Targa. KMLP proposes to perform these activities under its blanket certificate issued in Docket No. CP06-451-000 [119 FERC ¶ 61,309 (2007)], all as more fully set forth in the application which is on file with the Commission and open to public inspection.

Specifically, KMLP proposes to construct and operate facilities in Calcacieu Parish, Louisiana necessary to establish an interconnection with Targa's non-jurisdictional natural gas gathering and processing facilities. The facilities to be constructed by KMLP include an 8-inch tap, 8-inch ball valve, riser, 15-feet of 8-inch diameter piping and such other appurtenant facilities as deemed necessary to effectuate the interconnect. The remainder of the interconnect will be comprised of non-jurisdictional facilities such as meter tube outlet vents, valve actuators, over pressure protection, a line heater, and cathodic protection equipment to be constructed by Targa on an existing meter site associated with Targa's gathering and processing facilities. This interconnection will allow KMLP to deliver up to 100,000 MMBTU/day of re-vaporized liquefied natural gas to Targa for processing. The total cost of the proposed project is estimated to be $469,000. The proposed in-service date for the interconnect and related facilities is mid to late June 2010.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Norman Watson, Director, Business Development, Kinder Morgan Louisiana Pipeline LLC, 500 Dallas Street, Suite 1000, Houston, Texas 77002 at (713) 369-9219 or Bruce Newsome, Vice President, 3250 Lacey Road, Suite 700, Downers Grove, IL 60515 at (630) 725-3070.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Nathaniel J. Davis, Sr.,
Deputy Secretary.

[FR Doc. 2010-7823 Filed 4-6-10; 8:45 am]

BILLING CODE 6717-01-P